DEPARTMENT OF COMMERCE

International Trade Administration

[A-570-881]

Malleable Cast Iron Pipe Fittings From the People's Republic of China: Continuation of Antidumping Duty Order

AGENCY: Enforcement and Compliance, International Trade Administration, Department of Commerce.

SUMMARY: As a result of the determinations by the Department of Commerce (the “Department”) and the International Trade Commission (the “ITC”) that revocation of the antidumping duty (“AD”) order on malleable cast iron pipe fittings from the People's Republic of China (“PRC”) would be likely to lead to continuation or recurrence of dumping and of material injury to an industry in the United States, the Department is publishing this notice of continuation of the AD order.

DATES: Effective Date: August 12, 2014.

FOR FURTHER INFORMATION CONTACT: Brendan Quinn or Erin Begnal, AD/CVD Operations, Office III, Enforcement and Compliance, International Trade Administration, U.S. Department of Commerce, 14th Street and Constitution Avenue NW., Washington, DC 20230; telephone: (202) 482-5848 or (202) 482-1442, respectively.

SUPPLEMENTARY INFORMATION: On March 3, 2014, the Department published the notice of initiation of the second sunset review of the AD Order ¹ on malleable cast iron pipe fittings from the PRC, pursuant to section 751(c) of the Tariff Act of 1930, as amended (“the Act”).²

¹ See Antidumping Duty Order: Certain Malleable Iron Pipe Fittings From the People's Republic of China, 68 FR 69376 (December 12, 2003) (“Order”).

² See Initiation of Five-Year (“Sunset”) Review, 79 FR 11762 (March 3, 2014).

As a result of its review, the Department determined that revocation of the malleable cast iron pipe fittings Order would be likely to lead to a continuation or recurrence of dumping, and, therefore, notified the ITC of the magnitude of the margins likely to prevail should the order be revoked.³

³ See Malleable Cast Iron Pipe Fittings from the People's Republic of China: Final Results of Expedited Second Sunset Review of Antidumping Duty Order, 79 FR 42291 (July 21, 2014).

On August 5, 2014, the ITC published its determination, pursuant to section 751(c) of the Act, that revocation of the existing AD order on malleable cast iron pipe fittings from the PRC would be likely to lead to a continuation or recurrence of material injury to an industry in the United States within a reasonably foreseeable time.⁴

⁴ See Malleable Cast Iron Pipe Fittings From China, 79 FR 45460 (August 05, 2014); see also USITC Publication 4484, August 2014) entitled Malleable Iron Pipe Fittings from China (Inv. No. 731-TA-1021 (Second Review)).

Scope of the Order

The products covered by the Order are certain malleable iron pipe fittings, cast, other than grooved fittings, from the PRC. The merchandise is currently classifiable under item numbers 7307.19.90.30, 7307.19.90.60, 7307.19.90.80, and 7326.90.85.88 of the Harmonized Tariff Schedule of the United States (“HTSUS”). Excluded from the scope of this order are metal compression couplings, which are imported under HTSUS number 7307.19.90.80. A metal compression coupling consists of a coupling body, two gaskets, and two compression nuts. These products range in diameter from ½ inch to 2 inches and are carried only in galvanized finish. Although HTSUS subheadings are provided for convenience and customs purposes, the Department's written description of the scope of this proceeding is dispositive.

Continuation of the Order

As a result of these determinations by the Department and the ITC that revocation of the AD order on malleable cast iron pipe fittings would be likely to lead to a continuation or recurrence of dumping, and material injury to an industry in the United States, pursuant to sections 751(c) and 751(d)(2) of the Act, the Department hereby orders the continuation of the AD order on malleable cast iron pipe fittings from the PRC. U.S. Customs and Border Protection will continue to collect cash deposits for estimated antidumping duties at the rates in effect at the time of entry for all imports of subject merchandise. The effective date of the continuation of the order will be the date of publication in the Federal Register of this notice of continuation. Pursuant to section 751(c)(2) of the Act, the Department intends to initiate the next five-year review of the order not later than 30 days prior to the fifth anniversary of the effective date of this continuation.

This five-year (sunset) review and this notice are in accordance with section 751(c) of the Act and published pursuant to section 777(i)(1) of the Act and 19 CFR 351.218(f)(4).

Dated: August 5, 2014.
Paul Piquado,
Assistant Secretary, for Enforcement and Compliance.

[FR Doc. 2014-19051 Filed 8-11-14; 8:45 am]

BILLING CODE 3510-DS-P